DEPARTMENT OF COMMERCE

International Trade Administration

[A-351-806]

Silicon Metal from Brazil; Final Results of Antidumping Duty Administrative Review and Revocation of Order in Part

AGENCY: Import Administration, International Trade Administration, Department of Commerce.

ACTION: Notice of final results of antidumping duty administrative review and revocation of order in part.

SUMMARY: On August 8, 2002, the Department of Commerce (the Department) published the preliminary results of administrative review of the antidumping duty (AD) order on silicon metal from Brazil. The merchandise covered by this order is silicon metal from Brazil. This review covers three manufacturers/exporters, Rima Industrial SA (Rima), Companhia Ferroligas Minas Gerais - Minasligas (Minasligas) and Companhia Carbureto de Calcio (CBCC). The period of review (POR) is July 1, 2000, through June 30, 2001.

Based on our analysis of the comments received, we have made changes in the margin calculations. Therefore, the final results differ from the preliminary results. The final weighted-average dumping margins for the reviewed firms are listed below in the section entitled “Final Results of the Review.” We also have we have made a final determination to revoke the order with respect to Rima.

EFFECTIVE DATE: December 17, 2002.

FOR FURTHER INFORMATION CONTACT: Maisha Cryor, telephone: (202) 482-5831, Import Administration, International Trade Administration, U.S. Department of Commerce, Washington, DC 20230.

SUPPLEMENTARY INFORMATION:

The Applicable Statute

Unless otherwise indicated, all citations to the Tariff Act of 1930, as mended (the Act), are references to the provisions effective January 1, 1995, the effective date of the amendments made to the Act by the Uruguay Round Agreements Act. In addition, unless otherwise indicated, all citations to the Department's regulations are to 19 CFR Part 351 (2002).

Background

On August 8, 2002, the Department published the preliminary results of administrative review of the AD order on silicon metal from Brazil. See Silicon Metal From Brazil: Preliminary Results of Antidumping Duty Administrative Review and Notice of Intent To Revoke Order in Part, 67 FR 51539 (August 8, 2002)(Preliminary Results). This review covers three manufacturers/exporters, Rima, Minasligas and CBCC. The POR is July 1, 2000, through June 30, 2001. We invited parties to comment on our preliminary results of review. We received comments on September 16, 2002, from Rima, Minasligas, CBCC (collectively the respondents), and Elkem Metals Company and Globe Metallurgical (collectively the petitioners). On September 23, 2002, we received rebuttal comments from the petitioners, Minasligas and CBCC.

The Department has conducted this administrative review in accordance with section 751 of the Act.

Scope of Review

The merchandise covered by this administrative review is silicon metal from Brazil containing at least 96.00 percent but less than 99.99 percent silicon by weight. Also covered by this administrative review is silicon metal from Brazil containing between 89.00 and 96.00 percent silicon by weight but which contains more aluminum than the silicon metal containing at least 96.00 percent but less than 99.99 percent silicon by weight. Silicon metal is currently provided for under subheadings 2804.69.10 and 2804.69.50 of the Harmonized Tariff Schedule (HTS) as a chemical product, but is commonly referred to as a metal. Semiconductor grade silicon (silicon metal containing by weight not less than 99.99 percent silicon and provided for in subheading 2804.61.00 of the HTS) is not subject to the order. Although the HTS item numbers are provided for convenience and for U.S. Customs purposes, the written description remains dispositive.

Revocation

The Department “may revoke, in whole or in part” an antidumping duty order upon completion of a review under section 751 of the Act. While Congress has not specified the procedures that the Department must follow in revoking an order, the Department has developed a procedure for revocation as described in 19 CFR 351.222. This regulation requires, inter alia, that a company requesting revocation must submit the following: (1) A certification that the company has sold the subject merchandise at not less than normal value (NV) in the current review period and that the company will not sell at less than NV in the future; (2) a certification that the company sold the subject merchandise in commercial quantities in each of the three years forming the basis of the revocation request; and (3) an agreement to reinstatement in the order or suspended investigation, as long as any exporter or producer is subject to the order (or suspended investigation), if the Secretary concludes that the exporter or producer, subsequent to the revocation, sold the subject merchandise at less than NV. See 19 CFR 351.222(e)(1). Upon receipt of such a request, the Department will consider the following in determining whether to revoke the order in part: (1) Whether the producer or exporter requesting revocation has sold subject merchandise at not less than NV for a period of at least three consecutive years; (2) whether the continued application of the antidumping duty order is otherwise necessary to offset dumping; and (3) whether the producer or exporter requesting revocation in part has agreed in writing to the immediate reinstatement of the order, as long as any exporter or producer is subject to the order, if the Department concludes that the exporter or producer, subsequent to revocation, sold the subject merchandise at less than NV. See 19 CFR 351.222(b)(2); see also Notice of Preliminary Results and Partial Rescission of Antidumping Duty Administrative Review and Intent to Revoke Antidumping Duty Order in Part: Certain Pasta From Italy, 66 FR 34414, 34420 (June 28, 2001).

I. Rima: Determination to Revoke Order in Part

In the preliminary results, we determined that Rima met the requirements for revocation. See Preliminary Results, 67 FR at 51540-51541(August 8, 2002). On September 11, 2002, we established a separate schedule for parties to submit additional information regarding the necessity of the AD order with respect to Rima. See Memorandum from Thomas Futtner to Holly A. Kuga; Silicon Metal from Brazil; Comment Period for Revocation, dated September 11, 2002. We received no comments from the petitioners or Rima on this revocation determination. We now find, based on the final results in this review and the final results of the two preceding reviews, that Rima has demonstrated three consecutive years of sales at not less than NV. Furthermore, we find that Rima's aggregate sales to the United States were made in commercial quantities during each of those three years. See Preliminary Results 67 FR at 51541 (August 8, 2002). Finally, based on our review of the record, there is no basis to find that the continued application of the AD order is necessary to offset dumping. Therefore, for the final results, we find that Rima qualifies for revocation of the order on silicon metal from Brazil, under 19 CFR 351.222(b)(2).

II. Minasligas: Determination Not to Revoke Order in Part

In the preliminary results, we found that Minasligas did not meet the requirements for revocation because it did not have a zero or de minimis dumping margin during the 1999-2000 POR. See Preliminary Results, 67 FR at 51541 (August 8, 2002). Because of this, we preliminarily determined that Minasligas failed to make sales of subject merchandise “at not less than NV for a period of at least three consecutive years,” as required by the Department's regulations. Consequently, because no evidence has been presented to change our preliminary findings on this issue, we continue to find, for the final results, that Minasligas does not qualify for revocation of the AD order on silicon metal from Brazil, under 19 CFR 351.222(b)(2).

Analysis of Comments Received

All issues raised in the case and rebuttal briefs by parties to this administrative review are addressed in the “Issues and Decision Memorandum” (Decision Memorandum) from Bernard T. Carreau, Deputy Assistant Secretary, Import Administration, to Faryar Shirzad, Assistant Secretary for Import Administration, dated December 6, 2002, which is hereby adopted by this notice. A list of the issues which parties have raised and to which we have responded, all of which are in the Decision Memorandum, is attached to this notice as an Appendix. Parties can find a complete discussion of all issues raised in this review and the corresponding recommendations in this public memorandum which is on file in the Central Records Unit, room B-099 (“B-099”) of the main Department building. In addition, a complete version of the Decision Memorandum can be accessed directly on the Web at http://www.ita.doc.gov/import_admin/records/frn/. The paper copy and electronic version of the Decision Memorandum are identical in content.

Changes Since the Preliminary Results

Based on our analysis of comments received, we have made the following changes in the margin calculations. These changes are discussed in the relevant sections of the Decision Memorandum, accessible in B-099 and on the Web at http://www.ita.doc.gov/import__admin/records/frn/.

1. We made an adjustment to Minasligas' home market imputed credit expense in order to correct double counting.

2. We included stowage, customs, weighing and bill of lading release expenses in Minasligas' foreign movement expenses.

3. We subtracted Programa de Integracao Social (PIS) and Contribuicao do Fin Social (COFINS) taxes from NV in Minasligas' margin calculation program.

4. We excluded value-added taxes (VAT) from CBCC's cost of production (COP).

5. We made an adjustment to the exchange rate calculation for Rima, Minasligas and CBCC.

6. We made an adjustment to the currency conversion formula for Rima and CBCC.

Final Results of Review

We determine that the following percentage weighted-average margins exist for the period July 1, 2000, through June 30, 2001:

Manufacturer/exporter | Margin (percent)
Rima | 0.00
Minasligas | 0.74
CBCC | 0.00

Effective Date of Revocation

This revocation applies to all entries of subject merchandise that are produced by Rima and that are also exported by Rima, entered, or withdrawn from warehouse, for consumption on or after July 1, 2001. The Department will order the suspension of liquidation ended for all such entries and will instruct U.S. Customs to release any cash deposits or bonds. The Department will further instruct U.S. Customs to refund with interest any cash deposits on entries made after June 30, 2001.

Assessment

The Department will determine, and the Customs Service shall assess, antidumping duties on all appropriate entries. In accordance with 19 CFR 351.212(b)(1), we have calculated an importer-specific assessment rate for merchandise subject to this review. The Department will issue appropriate assessment instructions directly to the Customs Service within 15 days of publication of these final results of review. We will direct the Customs Service to assess the resulting assessment rates against the entered customs values for the subject merchandise on each of the importer's entries during the review period.

Cash Deposit Requirements

The following deposit requirements will be effective upon publication of this notice of final results of administrative review for all shipments of silicon metal from Brazil entered, or withdrawn from warehouse, for consumption on or after the date of publication, as provided by section 751(a)(1) of the Act: (1) Cash deposits for Rima will no longer be required and the suspension of liquidation will cease for entries made on or after July 1, 2001; (2) the cash deposit rate for the other reviewed companies will be the rates shown above; (3) for previously reviewed or investigated companies not listed above, the cash deposit rate will continue to be the company-specific rate published for the most recent period; (4) if the exporter is not a firm covered in this review, a prior review, or the original less-than-fair-value (LTFV) investigation, but the manufacturer is, the cash deposit rate will be the rate established for the most recent period for the manufacturer of the merchandise; and (5) the cash deposit rate for all other manufacturers or exporters will continue to be 91.06 percent. This rate is the “All Others” rate from the LTFV investigation. These deposit requirements shall remain in effect until publication of the final results of the next administrative review.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Administrative Protective Orders

This notice also serves as the only reminder to parties subject to administrative protective orders (APOs) of their responsibility concerning the return or destruction of proprietary information disclosed under an APO in accordance with 19 CFR 351.305 of the Department's regulations. Timely written notification of the return/destruction of APO materials or conversion to judicial protective order is hereby requested. Failure to comply with the regulations and terms of an APO is a violation which is subject to sanction.

We are issuing and publishing this determination and notice in accordance with sections 751(a)(1) and 777(i) of the Act.

Dated: December 6, 2002.
Faryar Shirzad,
Assistant Secretary for Import Administration.

Appendix Issues in Decision Memorandum

Minasligas

1. Circumstance of Sale Adjustment for PIS and COFINS Taxes

2. Home Market Credit

3. Foreign Movement Expenses

4. Model Matching

5. Duty Drawback and the Treatment of VAT, i.e., Imposto Sobre a Circulacao de Mercadorias e Servicos and Imposto Sobre Produtos Industrialzados Taxes

6. Home Market Movement Expenses

7. PIS and COFINS Taxes and the Margin Program CBCC

8a. Special Rule for Value Added After Importation

8b. Further Manufactured Products

9. Related Party Transactions

10. VAT and COP

Minasligas, CBCC and Rima

11. Exchange Rate

CBCC and Rima

12. Currency Conversion

[FR Doc. 02-31625 Filed 12-16-02; 8:45 am]

BILLING CODE 3510-DS-S